DEPARTMENT OF EDUCATION

Notice of Proposed Information Collection Request

AGENCY: Department of Education.

ACTION: Correction Notice.

SUMMARY: On July 9, 2009, the Department of Education published a comment period notice in the Federal Register (Page 32896, Column 3) for the information collection, “Requests for Title I, Part A Waivers”. Written comments regarding the emergency review should be electronically mailed to oira_submission@omb.eop.gov. The IC Clearance Official, Regulatory Information Management Services, Office of Management, hereby issues a correction notice as required by the Paperwork Reduction Act of 1995.

Dated: July 13, 2009.
Angela C. Arrington,
IC Clearance Official, Regulatory Information Management Services, Office of Management.

[FR Doc. E9-17037 Filed 7-16-09; 8:45 am]

BILLING CODE P